FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 12, 2018.

A. Federal Reserve Bank of Kansas City (Dennis Denney, Assistant Vice President) 1 Memorial Drive, Kansas City, Missouri 64198-0001:

1. Guy L. Berry and William L. Berry, both of Sapulpa, Oklahoma; individually, to retain voting shares of American Bancorporation, Inc., Sapulpa, Oklahoma, and thereby indirectly retain shares of American Heritage Bank, Sapulpa, Oklahoma.

In addition, James A. Dilley Jr., Jarrett Blake Dilley, Kaylee D. Berry, Hannah D. Berry, Brooklyn B. Berry, and the Guy L. Berry, Jr. Trust B-1, all of Sapulpa, Oklahoma, to retain/acquire voting shares and be approved as members of the Berry Family Group which, acting in concert, controls American Bancorporation.

2. Jeffrey Royal, Omaha, Nebraska; to retain voting shares of Tri Valley Bancshares, Inc., and thereby retain voting shares of Tri Valley Bank, both of Talmage, Nebraska.

Board of Governors of the Federal Reserve System, January 18, 2018.
Ann E. Misback,
Secretary of the Board.

[FR Doc. 2018-01133 Filed 1-22-18; 8:45 am]

BILLING CODE P